DEPARTMENT OF TRANSPORTATION

Federal Aviation Administration

Public Notice for Waiver of Aeronautical Land-Use Assurance: Dane County Regional Airport, Madison, WI

AGENCY: Federal Aviation Administration, DOT.

ACTION: Notice of intent of waiver with respect to land.

SUMMARY: The Federal Aviation Administration (FAA) is considering a proposal to authorize the even exchange of a parcel of airport property for an adjacent parcel owned by the City of Madison, WI. Parcels to be exchanged comprise 0.958 acres located in the northwest environs of the airport. The airport-owned parcel is not needed for aeronautical use as currently identified on the Airport Layout Plan.

The acreage comprising the airport-owned parcel was originally acquired in 1983 under Grant No. AIP 3-55-0036-02. The proposed use of this parcel is to provide replacement acreage for the “taking,” or use of 0.958 acres of City of Madison-owned property which has been determined to be encumbered by both Department of Transportation (DOT) Section 4(f), and Land and Water Conservation Fund (LWCF) Act Section 6(f). Use of the City of Madison-owned DOT Section 4(f) and LWCF Section 6(f)-encumbered parcel is necessary to accommodate realignment of a rail line to a location outside of the Runway 13 runway safety and object free areas, and Runway 13 and 18 approach surfaces. Improvements to the runway safety and object free areas and approach surfaces are to be accomplished through an airport capital improvement project. The airport property to be exchanged will serve as mitigation for the “taking” of the City of Madison-owned DOT Section 4(f) and LWCF Section 6(f)-encumbered parcel. An environmental assessment was prepared to address environmental impacts associated with the proposed runway safety area and approach surface capital improvement project. The airport sensor has concluded that the subject airport land is not needed for expansion of airport facilities. There are no impacts to the airport by allowing the airport to dispose of the property. The airport owner wishes to transfer ownership of the parcel to the City of Madison, Wisconsin. Approval does not constitute a commitment by the FAA to financially assist in the disposal of the subject airport property nor a determination of eligibility for grant-in-aid funding from the FAA.

In accordance with section 47107(h) of title 49, United States Code, this notice is required to be published in the Federal Register 30 days before modifying the land-use assurance that requires the property to be used for an aeronautical purpose.

DATES: Comments must be received on or before March 29, 2004.

FOR FURTHER INFORMATION CONTACT: Mr. Daniel J. Millenacker, Program Manager, Federal Aviation Administration, Airports District Office, 6020 28th Avenue South, Room 102, Minneapolis, MN 55450-2706. Telephone Number (612) 713-4350/FAX Number (612) 713-4364. Documents reflecting this FAA action may be reviewed at this location, or at Dane County Regional Airport, Office of Airport Manager, 4000 International Lane, Madison, WI.

SUPPLEMENTARY INFORMATION: Following is a legal description of the subject airport property to be released at Dane County Regional Airport in Madison, Wisconsin, and described as follows:

A parcel of land located in the SE1/4-SE1/4 of Section 18, T8N, R10E, Township of Burke, Dane County, Wisconsin, described as: Commencing at the Southeast corner of said Section 18, thence N0° 47′47″ E, 1327.46 feet, along the East line of said SE1/4 to the Northeast corner of said SE1/4-SE1/4; thence N89° 40′40″ W, 241.03 feet along the North line of said SE1/4-SE1/4 to the point of beginning; thence S35° 29′18″ W, 48.07 feet; N89° 40′40″ W, 1048.55 feet to the West line of said SE1/4-SE1/4; thence N0° 40′29″ E, 39.30 feet, along said West line to the Northwest corner of said SE1/4-SE1/4; thence S89° 40′40″ E, 1076.00 feet along the North line of said SE1/4-SE1/4, to the point of beginning. Parcel contains 0.958 acres, more or less.

Issued in Minneapolis, MN on February 5, 2004.
Nancy Nistler,
Manager, Minneapolis Airports District Office, FAA, Great Lakes Region.

[FR Doc. 04-4291 Filed 2-25-04; 8:45 am]

BILLING CODE 4910-13-M